FEDERAL MARITIME COMMISSION

[Docket No. 05-06]

Non-Vessel-Operating Common Carrier Service Arrangements; Extension of Time

The Commission has received and determined to grant a request from the Department of Justice for an extension of time to October 20, 2005 to file comments in this proceeding. Comments will now be due on October 20, 2005.

Bryant L. VanBrakle,
Secretary.

[FR Doc. 05-20136 Filed 10-5-05; 8:45 am]

BILLING CODE 6730-01-U